DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before May 3, 2024.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Issued in Washington, DC, on April 5, 2024.
Donald P. Burger,
Chief, General Approvals and Permits Branch.

Special Permits Data
Application No. | Applicant | Regulation(s) affected | Nature of the Special Permits thereof
11107-M | Pacific Scientific Energetic Materials Company (California) | 173.51(a), 173.54 | To modify the special permit to remove names of specific authorized carriers and to update the length of the tray. (mode 1).
11818-M | Raytheon Company | 172.101(j), 172.101(j)(1), 173.301(f), 173.302a(a)(1), 173.304a(a)(2) | To modify the special permit to authorize an additional hazardous material and to authorize the military-grade system to be designed and analyzed to MIL-STD-810. (modes 1, 3, 4).
15583-M | Northern Air Cargo, LLC | 172.101(j)(1), 172.301(c), 173.62(c) | To modify the special permit to authorize an additional hazardous material. (mode 4).
16318-M | Technical Chemical Company | 173.304(d), 173.167(a), 173.302(a), 173.306(i) | To modify the special permit to authorize an additional hazardous material. (modes 1, 2, 3, 4, 5).
20418-M | Hanwha Cimarron LLC | 173.302(a), 173.304 | To modify the special permit to authorize an extended service life program. (modes 1, 2, 3).
20952-M | Capella Space Corp | 173.185(a)(1), 173.301(f)(1), 173.302a(a)(1), 178.35(e) | To modify the special permit to reference DOT-SP 21479 and DOT-SP 11818. (modes 1, 4).
21136-M | Hanwha Cimarron LLC | 173.302(a) | To modify the special permit to authorize an extended service life program. (modes 1, 2, 3).
21491-M | Hanwha Cimarron LLC | 173.302(a) | To modify the special permit to authorize an extended service life program. (modes 1, 2, 3).
21638-M | Bae Systems Controls Inc | 172.101(j) | To modify the special permit to authorize a lithium battery with a higher weight. (mode 4).

[FR Doc. 2024-08234 Filed 4-17-24; 8:45 am]

BILLING CODE P